DEPARTMENT OF COMMERCE

International Trade Administration

[A-533-841, A-560-817, A-583-840, A-549-823]

Notice of Postponement of Preliminary Antidumping Duty Determinations: Bottle-Grade Polyethylene Terephthalate (PET) Resin From India, Indonesia, Taiwan, and Thailand

AGENCY: Import Administration, International Trade Administration, Department of Commerce.

SUMMARY: The Department of Commerce is postponing preliminary determinations in the antidumping duty investigations on bottle-grade polyethylene terephthalate (PET) resin from India, Indonesia, Taiwan, and Thailand from August 31, 2004, until no later than October 20, 2004. This extension is made pursuant to section 733(c)(1)(A) of the Tariff Act of 1930, as amended by the Uruguay Round Agreements Act (“the Act”).

DATES: Effective August 11, 2004.

FOR FURTHER INFORMATION CONTACT: Daniel O'Brien (India & Taiwan) at (202) 482-1376, Andrew McAllister (Indonesia) at (202) 482-1174, or Stephen Cho (Thailand) at (202) 482-3798, Import Administration, International Trade Administration, U.S. Department of Commerce, 14th Street and Constitution Avenue, NW., Washington, DC 20230.

Postponement of Preliminary Determinations: On April 20, 2004, the Department of Commerce (“the Department”) published the initiation of the antidumping duty investigations of imports of PET resin from India, Indonesia, Taiwan, and Thailand. See Notice of Initiation of Antidumping Investigations: Bottle-Grade Polyethylene Terephthalate (PET) Resin from India, Indonesia, Taiwan, and Thailand, 69 FR 21082 (April 20, 2004) (“Initiation Notice”). The Initiation Notice stated that we would make our preliminary determination for these antidumping duty investigations no later than August 31, 2004, 140 days after the date on which the Department initiated these investigations.

On July 30, 2004, the United States PET Resin Producers Coalition (“the petitioner”) made a timely request pursuant to 19 CFR 351.205(e) for a postponement of the preliminary determinations. The petitioner requested postponement of the preliminary determinations because of the need for additional time for the Department to conduct a full and complete antidumping analysis for all four countries, including analysis of sales below cost, prior to the issuance of the preliminary determinations.

For the reasons identified by the petitioner, and because there are no compelling reasons to deny the request, we are postponing these preliminary determinations under section 733(c)(1)(A) of the Act. We will make our preliminary determinations no later than October 20, 2004.

This notice is published pursuant to section 733(c)(2) of the Act.

Dated: August 5, 2004.
Jeffrey A. May,
Deputy Assistant Secretary for Import Administration, Group 1.

[FR Doc. 04-18395 Filed 8-10-04; 8:45 am]

BILLING CODE 3510-DS-M